DEPARTMENT OF TRANSPORTATION

Surface Transportation Board

[STB Docket Nos. AB-855 (Sub-No. 1X) and AB-847 (Sub-No. 2X)]

A & R Line, Inc.—Abandonment Exemption—in Cass and Pulaski Counties, IN and Toledo, Peoria & Western Railway Corporation—Discontinuance of Service Exemption—in Cass and Pulaski Counties, IN

On July 31, 2003, A & R Line, Inc. (A&R) and Toledo, Peoria & Western Railway Corporation (TP&W) jointly filed with the Surface Transportation Board (Board) a petition under 49 U.S.C. 10502 for exemption from the provisions of 49 U.S.C. 10903. A&R seeks to abandon and TP&W seeks to discontinue service over a line of railroad known as the A&R line extending from milepost 5.1W near Kenneth to the end of the line at milepost 21.OW near Winamac, a distance of 15.9 miles in Cass and Pulaski Counties, IN. The line constitutes A&R's entire line of railroad. The line traverses United States Postal Service Zip Codes 47550, 46978, 46985 and 46996, and it includes the station of Winamac at milepost 21.OW.

The line does not contain federally granted rights-of-way. Any documentation in A&R's or TP&W's possession will be made available promptly to those requesting it.

The interest of railroad employees of TP&W will be protected by the conditions set forth in Oregon Short Line R. Co.—Abandonment—Goshen, 360 I.C.C. 91 (1979). The Board generally does not impose labor protective conditions on a railroad, such as A&R here, that is abandoning its entire line. See, Northampton and Bath R. Co.—Abandonment, 354 I.C.C. 784 (1978).

By issuance of this notice, the Board is instituting an exemption proceeding pursuant to 49 U.S.C. 10502(b). A final decision will be issued by November 18, 2003.

Any offer of financial assistance under 49 CFR 1152.27(b)(2) will be due no later than 10 days after service of a decision granting the petition for exemption. Each offer must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than September 9, 2003. Each trail use request must be accompanied by a $150 filing fee. See 49 CFR 1002.2(f)(27).

All filings in response to this notice must refer to STB Docket Nos. AB-855 (Sub-No. 1X) and AB-847 (Sub-No. 2X) and must be sent to: (1) Surface Transportation Board, 1925 K Street NW., Washington, DC 20423-0001; and (2) Louis E. Gitomer, Ball Janik LLP, 1455 F St., NW., Suite 225, Washington, DC 20005. Replies to the petition are due on or before September 9, 2002.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary), prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: August 11, 2003.
By the Board, David M. Konschnik, Director, Office of Proceedings.
Vernon A. Williams,
Secretary.

[FR Doc. 03-21033 Filed 8-19-03; 8:45 am]

BILLING CODE 4915-00-P